DEPARTMENT OF THE INTERIOR

Bureau of Land Management

[12X.LLAK942000.L54200000.FR0000. LVDIL12L0530; FF097215]

Notice of Application for a Recordable Disclaimer of Interest for Lands Underlying the Fortymile River System, Alaska

AGENCY: Bureau of Land Management, Interior.

ACTION: Notice.

SUMMARY: The State of Alaska (State) has filed an application with the Bureau of Land Management (BLM) for a Recordable Disclaimer of Interest (RDI) from the United States in those lands underlying the Fortymile River System located in the upper Yukon subregion, Alaska. The State asserts that the Fortymile River System was navigable and unreserved at the time of Alaska Statehood in 1959.

DATES: The BLM should receive all comments to this action on or before November 19, 2018.

ADDRESSES: You may submit comments by mail or email on the State of Alaska's application for an RDI or on the BLM draft “Summary Report on Federal Interest in Lands underlying the Fortymile River System in Alaska.” (Report) To file comments by mail, send to: RDI Program Manager (AK-942), Division of Lands and Cadastral, BLM Alaska State Office, 222 West 7th Avenue, #13, Anchorage, AK 99513. To submit comments by email, send to anichols@blm.gov.

FOR FURTHER INFORMATION CONTACT: Angie Nichols, RDI Program Manager, 222 West 7th Avenue, #13, Anchorage, AK 99513; 907-271-3359; anichols@blm.gov; or visit the BLM RDI website at https://www.blm.gov/basic/programs-lands-and-realty-alaska-rdi-fortymile-fortymile-river.

People who use a telecommunications device for the deaf (TDD) may call the Federal Relay System (FRS) at 1-800-877-8339 to contact the above individual during normal business hours. The FRS is available 24 hours a day, 7 days a week, to leave a message or a question with the above individual. You will receive a reply during normal business hours.

SUPPLEMENTARY INFORMATION: On May 11, 2017, the State filed an application (FF-97215) for an RDI pursuant to Section 315 of the Federal Land Policy and Management Act of 1976 (FLPMA) and the regulations contained in 43 CFR Subpart 1864 for the lands underlying the Fortymile River System.

The State asserts that this river system was navigable at the time of Alaska Statehood. As such, the State contends that ownership of the lands underlying this river system automatically passed from the United States to the State in 1959 at the time of Statehood under the Equal Footing Doctrine; the Submerged Lands Act of 1953; the Alaska Statehood Act of 1959; and other title navigability law. Section 315 of FLPMA authorizes the BLM to issue an RDI when it determines that a record interest of the United States in lands has terminated by law or is otherwise invalid, and a disclaimer will help remove a cloud on title to such lands.

The State's application is for an RDI for all submerged lands underlying the portion of the Fortymile River System described below. Specifically, these are all submerged lands between the ordinary high water marks of the left and right banks of the Fortymile River, beginning sixty feet upstream of the international border with Canada, upstream to the confluence of the North and South Forks of the Fortymile River within section 10, township 8 south, range 30 east, Fairbanks Meridian, Alaska; all submerged lands between the ordinary high water marks of the left and right banks of the South Fork of the Fortymile River beginning at the confluence with the North Fork of the Fortymile River upstream to the confluence of the Mosquito and Dennison Forks of the Fortymile River within section 8, township 26 north, range 18 east, Fairbanks Meridian, Alaska; and all submerged lands between the ordinary high water marks of the left and right banks of the North Fork of the Fortymile River, beginning at its confluence with the South Fork of the Fortymile River, upstream to the dead-end slough which is a remnant of the Knik in section 20, township 6 south, range 29 east, Fairbanks Meridian, Alaska. The State listed the main stem of the Fortymile River's coverage on the USGS 1:63,360 series topographic map Eagle A-2 (1956), Eagle B-1 (1956) and Eagle B-2 (1956); for the North Fork of the Fortymile River, Eagle A-2 (1956), Eagle B-2 (1956) and Eagle B-3 (1956); and the South Fork of the Fortymile River is shown on the Eagle A-2 (1956) quadrangle.

Over time, the precise location of the submerged lands described above may vary between townships due to the ambulatory nature of these water bodies.

An RDI is a legal document through which the BLM disclaims the United States' interest in, or ownership of, specified lands, but the disclaimer does not grant, convey, transfer, or renounce any title or interest in the lands, nor does it release any tax, judgment, or lien. This Notice of Application is to inform the public of the pending application and the State's supporting evidence, as well as to provide the opportunity to comment or provide additional information to the BLM.

The BLM will not make a final decision on the merits of the State's application before November 19, 2018. During this 90-day period, interested parties may comment on the State's application, FF-97215, and supporting evidence. Interested parties may also comment on the BLM's draft report, which is available on the BLM's RDI website (see FOR FURTHER INFORMATION CONTACT above).

Copies of the State's application, supporting evidence, the BLM draft report, and comments, including names and street addresses of commenters, will be available for public review at the BLM Alaska Public Information Center (Public Room), 222 West 8th Avenue, Anchorage, Alaska, during regular business hours 8 a.m. to 4 p.m., Monday through Friday, except holidays.

Before including your address, phone number, email address, or other personally identifying information in your comment, you should be aware that your entire comment—including your personally identifiable information—may be made publicly available at any time. While you can ask the BLM in your comment to withhold your personally identifiable information from public review, we cannot guarantee that we will be able to do so.

If the BLM determines the State's evidence and any additional information the agency receives concerning the State's application is sufficient to reach a favorable determination, and neither the records nor a valid objection discloses a reason not to disclaim, the BLM may decide to approve the application for the RDI.

Authority: 43 CFR 1864.2.

Erika L. Reed,
Deputy State Director, Division of Lands and Cadastral, Alaska.

[FR Doc. 2018-17878 Filed 8-17-18; 8:45 am]

BILLING CODE 4310-JA-P